DEPARTMENT OF DEFENSE

Office of the Secretary

Federal Advisory Committee; Defense Health Board (DHB) Meeting

AGENCY: Department of Defense (DoD).

ACTION: Notice of meeting.

SUMMARY: Pursuant to the Federal Advisory Committee Act of 1972 (5 U.S.C., Appendix as amended), the Sunshine in the Government Act of 1976 (5 U.S.C. 552b, as amended), and 41 CFR 102-3.150, and in accordance with Section 10(a)(2) of Public Law, the Defense Health Board (DHB) announces that it will meet on August 8 and 9, 2011. Subject to the availability of space, the meeting will be open to the public on August 8 from 9:30 a.m. to 12:30 p.m. and from 1:30 to 5 p.m.

DATES: The meeting will be held—

August 8, 2011

8-9 a.m. (Administrative Working Meeting).

9:30 a.m.-12:30 p.m. (Open Session).

12:30-1:30 p.m. (Administrative Working Meeting).

1:30-5 p.m. (Open Session).

August 9, 2011

8 a.m.-3 p.m. (Administrative Working Meeting).

ADDRESSES: The August 8, 2011 meeting will be held at the Hotel Murano, 1320 Broadway, Tacoma, WA 98402. The August 9, 2011 meeting will include a site visit to Madigan Army Medical Center. Written statements may be mailed to the address under FOR FURTHER INFORMATION CONTACT, e-mailed to dhb@ha.osd.mil, or faxed to (703) 681-3317.

FOR FURTHER INFORMATION CONTACT: Ms. Christine Bader, Director, Defense Health Board, Five Skyline Place, 5111 Leesburg Pike, Suite 810, Falls Church, Virginia 22041-3206, (703) 681-8448, Ext. 1215, Fax: (703)-681-3317, Christine.bader@tma.osd.mil.

SUPPLEMENTARY INFORMATION:

Purpose of the Meeting

The purpose of the meeting is to address and deliberate both pending and new Board issues and provide briefings for Board members on topics related to ongoing Board business.

Agenda

On August 8, 2011, the DHB will receive briefings regarding military health needs and priorities. The DHB Trauma and Injury Subcommittee will present an update of current activities as well as its findings and proposed recommendations regarding tranexamic acid use in theater. The Board will vote on issues presented by the Psychological Health External Advisory Subcommittee, including its Final Report on psychotropic medication prescription practices and use, and complementary and alternative medicine use in the DoD. The Psychological Health External Advisory Subcommittee will also present its recommendations regarding the use of Automated Neuropsychological Assessment Metrics. The Board will receive informational briefings about the DoD Institutional Review Board, the Military Infectious Diseases Research Program, and from DoD personnel with deployment experience.

Pursuant to 5 U.S.C. 552b, as amended, and 41 CFR 102-3.140 through 102-3.165, and subject to the availability of space, the DHB meeting from 9:30 a.m. to 12:30 p.m. and from 1:30 to 5 p.m. on August 8, 2011 is open to the public. The public is encouraged to register for the meeting. Additional information, agenda updates, and meeting registration are available online at the DHB Web site, http://www.health.mil/dhb/default.cfm.

Written Statements

Any member of the public wishing to provide input to the DHB should submit a written statement in accordance with 41 CFR 102-3.140(C) and section 10(a)(3) of the Federal Advisory Committee Act and the procedures described in this notice. Written statements should be no longer than two type-written pages and must address the following detail: the issue, discussion, and a recommended course of action. Supporting documentation may also be included as needed to establish the appropriate historical context and to provide any necessary background information.

Individuals desiring to submit a written statement may do so through the Board's Designated Federal Officer (DFO) (see FOR FURTHER INFORMATION CONTACT) at any point. If the written statement is not received at least 10 calendar days prior to the meeting, which is subject to this notice, then it may not be provided to or considered by the DHB until the next open meeting.

The DFO will review all timely submissions with the DHB President, and ensure they are provided to members of the DHB before the meeting that is subject to this notice. After reviewing the written comments, the President and the DFO may choose to invite the submitter of the comments to orally present their issue during an open portion of this meeting or at a future meeting.

The DFO, in consultation with the DHB President, may, if desired, allot a specific amount of time for members of the public to present their issues for review and discussion by the DHB.

Special Accommodations

If special accommodations are required to attend (sign language, wheelchair accessibility) please contact Ms. Lisa Jarrett at (703) 681-8448 Ext. 1280 by July 26, 2011.

Dated: July 7, 2011.
Aaron Siegel,
Alternate OSD Federal Register Liaison, Officer, Department of Defense.

[FR Doc. 2011-17556 Filed 7-12-11; 8:45 am]

BILLING CODE 5001-06-P